DEPARTMENT OF ENERGY

Federal Energy Regulatory Commission

[Docket No. RP01-350-000]

Colorado Interstate Gas Company; Notice of Proposed Changes in FERC Gas Tariff

April 4, 2001.

Take notice that on March 30, 2001, Colorado Interstate Gas Company (CIG) tendered for filing as part of its FERC Gas Tariff, First Revised Volume No. 1, the tariff sheets listed in Appendix A to the notice attached to the filing, to become effective May 1, 2001.

The proposed rate changes would increase revenues from jurisdictional service by approximately $9.4 million based on the 12-month period ending December 31, 2000, as adjusted. CIG states that $9.4 million rate increase would be necessary to: (1) Compensate CIG for the inflation in operating costs that has occurred since its last general rate case in 1996, including the expansion filings in Docket No. CP00-452-000 (Raton Basin Expansion), Docket No. CP01-1-000 (Valley Line I Expansion), safest-related system integrity, as well as substantial electronic and computer enhancements; (2) modify rates to reflect CIG's current business and discounting profile and; (3) would allow CIG to earn a rate of return on CIG's assets, at a level that will be competitive in capital markets.

CIG states that the tariff sheets listed in Appendix A include two new transportation services, and change significantly the nature and the cost of its two no-notice delivery services, as well as multiple conforming tariff modifications.

CIG states that a full copy or abbreviated copy of its filing are being serviced on all jurisdictional customers, applicable state commissions, and interested parties that have requested service.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-222 for assistance). Comments, protests,and interventions may be filed electronically via the internet in lieu of paper. See, 18 CFR 385.2001(a)(1)(iii) and the instructions on the Commission's web site at http://www.ferc.fed.us/efi/doorbell.htm.

David P. Boergers,
Secretary.

[FR Doc. 01-8790 Filed 4-9-01; 8:45 am]

BILLING CODE 6717-01-M